ENVIRONMENTAL PROTECTION AGENCY

[EPA-HQ-OW-2005-0026; FRL-8162-4]

Tribal 106 Grant Guidance

AGENCY: Environmental Protection Agency (EPA).

ACTION: Notice of availability.

SUMMARY: This document provides notice of availability for public comment of the draft Guidance on Awards of Grants to Indian Tribes under Section 106 of the Clean Water Act for Fiscal Year 2007 and Future Years. This draft Guidance provides the Environmental Protection Agency and Tribes with a consistent framework of procedures and guidelines for awarding and administering grants to federally recognized Tribes under the authority of Section 106 of the Clean Water Act. Specifically, the draft Guidance will assist Tribal water quality program managers, staff, and other Tribal environmental decision-makers in designing and implementing an effective and successful water quality program utilizing Section 106 funds. The draft 106 Tribal Guidance is for Tribal water quality programs at all levels of sophistication and development. For new programs, it explains how to successfully initiate and develop a water quality program. For Tribes with well-established programs, it contains information on expanding a water quality program. To meet the needs of Tribes at all levels of development, the draft Guidance presents the basic steps a Tribe would take to collect the information it will need to make effective decisions about its program, its goals, and its future direction. The final Guidance will take effect for grants issued by the Environmental Protection Agency's Regional offices in fiscal year 2007. A Notice of its Availability will be published in the Federal Register. This action affects all Tribal environmental programs that receive Section 106 Tribal grants.

DATES: Comments must be received on or before June 26, 2006.

ADDRESSES: Submit your comments, identified by Docket ID No. EPA-HQ-OW-2005-0026, by one of the following methods:

• www.regulations.gov: Follow the on-line instructions for submitting comments.

• E-mail: ow-docket@epa.gov Attention Docket ID No. OW-2005-0026

• Fax: (202) 566-1749

• Mail: Water Docket, Environmental Protection Agency, Mailcode: 4101T, 1200 Pennsylvania Ave., NW., Washington, DC 20460.

• Hand Delivery: EPA Docket Center, EPA West, Room B102, 1301 Constitution Avenue, NW., Washington, DC, Attention Docket ID No. OW-2005-0026. Such deliveries are only accepted during the Docket's normal hours of operation, and special arrangements should be made for deliveries of boxed information.

Instructions: Direct your comments to Docket ID No. EPA-HQ-OW-2005-0026. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm. For additional instructions on submitting comments, go to Unit I.1 of the SUPPLEMENTARY INFORMATION section of this document.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Water Docket, EPA/DC, EPA West, Room B102, 1301 Constitution Ave., NW., Washington, DC. The Public Reading Room is open from 8:30 a.m. to 4:30 p.m., Monday through Friday, excluding legal holidays. The telephone number for the Public Reading Room is (202) 566-1744, and the telephone number for the Water Docket is (202) 566-2426.

FOR FURTHER INFORMATION CONTACT: Lena Ferris, Office of Water, Office of Wastewater Management, 4201M, Environmental Protection Agency, 1200 Pennsylvania Avenue, NW., Washington, DC 20460; telephone number: (202) 564-8831; fax number: (202) 501-2399; e-mail address: ferris.lena@epa.gov.

SUPPLEMENTARY INFORMATION:

I. General Information

Affected Entities: Tribes that are eligible to receive grants under Section 106 of the Clean Water Act.

1. Submitting CBI. Do not submit this information to EPA through www.regulations.gov or e-mail. Clearly mark the part or all of the information that you claim to be CBI. For CBI information on a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

• Identify the rulemaking by docket number and other identifying information (subject heading, Federal Register date, and page number).

• Follow directions—The agency may ask you to respond to specific questions or organize comments by referencing a Code of Federal Regulations (CFR) part or section number.

• Explain why you agree or disagree; suggest alternatives; and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible.

• Make sure to submit your comments by the comment period deadline identified.

3. Specific Questions EPA is Soliciting for Tribal Comment. In addition to overall general comments on any/all portions of the Guidance, EPA is specifically requesting Tribal comment on the following five questions:

(1) Does the proposed Guidance structure, offering three paths (non-regulatory, tribal water quality standards, regulation-based water quality controls) and three program activity levels (fundamental, intermediate, and mature) provide Tribes appropriate direction and flexibility for developing and implementing surface water quality protection programs?

(2) Does the title of Chapter 5, Non-Regulatory Approach, accurately portray the substantive programmatic elements found in the chapter?

(3) Do the basic minimum nine reporting requirements for monitoring, listed in Chapter 8, seem reasonable/compatible with the various maturity levels of Tribal water quality programs?

(4) What is the estimated Tribal cost to sample for the nine basic parameters?

(5) What type of technical assistance, if any, would your Tribe need to receive from EPA in order to comply with the monitoring and reporting requirements associated with the Guidance (see Chapter 8)?

II. Background

Over the past 10 years, funding available for Section 106 grants to Indian Tribes has increased from $3 million to $25 million per year. The draft Guidance provides a framework for evaluating national program results and more clearly defines expectations and requirements for Tribal Section 106 grant recipients. This document is an effort to provide unified guidance that helps Tribes develop and implement water quality programs and defines what EPA expects from Tribal programs. It provides an overview of all programmatic and technical requirements, discusses some common considerations across programs, and links to technical resources available to develop Tribal programs. The draft Guidance outlines new reporting requirements and data management expectations for all Tribal programs receiving Section 106 funds. Data collected as a result of the new reporting requirements will help EPA measure environmental results of the Section 106 Tribal Program and comply with the Government Performance and Results Act (GPRA) and other federal mandates. The draft Guidance can be found at the Environmental Protection Agency's Web site at http://www.epa.gov/owm/cwfinance/106tgg07.htm, or by contacting the point of contact listed under the section entitled FOR FURTHER INFORMATION CONTACT.

III. Statutory and Executive Order Reviews

Under Executive Order 12866 (58 FR 51735, October 4, 1993), this action is not a “significant regulatory action” and is therefore not subject to OMB review. Because this grant action is not subject to notice and comment requirements under the Administrative Procedures Act or any other statute, it is not subject to the Regulatory Flexibility Act (5 U.S.C. 601 et seq.) or sections 202 and 205 of the Unfunded Mandates Reform Act of 1999 (UMRA) (Pub. L. 104-4). In addition, this action does not significantly or uniquely affect small governments. Although this action does not generally create new binding legal requirements, where it does, such requirements do not substantially and directly affect Tribes under Executive Order 13175 (63 FR 67249, November 9, 2000). Informal consultation has been ongoing with Tribes, and a formal comment period will be initiated with the release of this notice. This action will not have federalism implications, as specified in Executive Order 13132 (64 FR 43255, August 10, 1999). This action is not subject to Executive Order 13211, “Actions Concerning Regulations that Significantly Affect Energy Supply, Distribution, or Use” (66 FR 28355, May 22, 2001), because it is not a significant regulatory action under Executive Order 12866. This action does not involve technical standards; thus, the requirements of section 12(d) of the National Technology Transfer and Advancement Act of 1995 (15 U.S.C. 272 note) do not apply. This action does not impose an information collection burden under the provisions of the Paperwork Reduction Act of 1995 (44 U.S.C. 3501 et seq.). The Congressional Review Act, 5 U.S.C. 801 et seq., generally provides that before certain actions may take effect, the agency promulgating the action must submit a report, which includes a copy of the action, to each House of the Congress and to the Comptroller General of the United States. Since this grant action contains legally binding requirements, it is subject to the Congressional Review Act, and EPA will submit its final action in its report to Congress under the Act.

Dated: April 20, 2006.
Benjamin H. Grumbles,
Assistant Administrator, Office of Water.

[FR Doc. E6-6363 Filed 4-26-06; 8:45 am]

BILLING CODE 6560-50-P